ENVIRONMENTAL PROTECTION AGENCY

[EPA-HQ-OW-2008-0719; FRL 9940-55-OEI]

Information Collection Request Submitted to OMB for Review and Approval; Comment Request; National Pollutant Discharge Elimination System (NPDES) Program (Renewal)

AGENCY: Environmental Protection Agency (EPA).

ACTION: Notice.

SUMMARY: The Environmental Protection Agency has submitted an information collection request (ICR), “National Pollutant Discharge Elimination System (NPDES) Program (Renewal)” (EPA ICR No. 0229.21, OMB Control No. 2040-0004) to the Office of Management and Budget (OMB) for review and approval in accordance with the Paperwork Reduction Act (44 U.S.C. 3501 et seq.). This is a proposed extension of the ICR, which is currently approved through December 31, 2015. Public comments were previously requested via the Federal Register (80 FR 60142) on October 5, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before January 27, 2016.

ADDRESSES: Submit your comments, referencing Docket ID Number EPA-HQ-OW-2008-0719, to (1) EPA online using www.regulations.gov (our preferred method), by email to ow-docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Amelia Letnes, Office of Wastewater Management, Mail Code 4203M, Environmental Protection Agency, 1200 Pennsylvania Ave. NW., Washington, DC 20460; telephone number: 202-564-5627; email address: letnes.amelia@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit www.epa.gov/dockets.

Abstract: This consolidated ICR calculates the burden and costs associated with the NPDES program, identifies the types of activities regulated under the NPDES program, describes the roles and responsibilities of state governments and the Agency, and presents the program areas that address the various types of regulated activities. This renewal includes the addition of the burden and costs for the Airport Deicing Category previously contained in a separate ICR.

Form Numbers: None.

Respondents/affected entities: State and Local Governments, Private Entities.

Respondent's obligation to respond: Mandatory per Clean Water Act (CWA) section 402.

Estimated number of respondents: 532,523 (total).

Frequency of response: Varies by requirement from daily to annually or on occasion.

Total estimated burden: 21,041,107 hours (per year). Burden is defined at 5 CFR 1320.03(b).

Total estimated cost: $121,797,877 (per year), includes $20,234,453 annualized capital or operation & maintenance costs.

Changes in the Estimates: There is a decrease of 283,634 hours in the total estimated respondent burden compared with the ICR currently approved by OMB. Adjustments to the burden estimates include: The addition of the burden associated with the airport deicing category; changes in the burden associated with agency actions related to changes in the VGP; addition of burden associated with the issuance of the small vessels general permit (sVGP); and changes in the estimated burden associated with revised estimates of number of respondents.

Courtney Kerwin,
Acting Director, Collection Strategies Division.

[FR Doc. 2015-32610 Filed 12-24-15; 8:45 am]

BILLING CODE 6560-50-P